DEPARTMENT OF ENERGY

Federal Energy Regulatory Commission

[Project No. P-13212-005; Project No. P-13212-005]

Kenai Hydro, LLC ; Notice of Scoping Meetings and Environmental Site Review and Soliciting Scoping Comments

Take notice that the following hydroelectric application has been filed with Commission and is available for public inspection:

a. Type of Application: Application for Original License for Major Project—Unconstructed.

b. Project No.: 13212-005.

c. Date filed: April 18, 2016.

d. Applicant: Kenai Hydro, LLC.

e. Name of Project: Grant Lake Hydroelectric Project.

f. Location: On Grant Creek, near the Town of Moose Pass, Kenai Peninsula Borough, Alaska. The proposed project would occupy 1,741.3 acres of federal land within the Chugach National Forest managed by the U.S. Forest Service.

g. Filed Pursuant to: Federal Power Act, 16 U.S.C. 791(a)-825(r).

h. Applicant Contact: Mike Salzetti, Manager of Fuel Supply & Renewable Energy Development, 280 Airport Way, Kenai, AK 99611. (907) 283-2375.

i. FERC Contact: Kenneth Hogan, kenneth.hogan@ferc.gov, 202-502-8434.

j. Deadline for filing scoping comments: October 10, 2016.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13212-005.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The proposed Grant Lake Hydroelectric Project would consist of: (1) An intake structure within Grant Lake; (2) a 3,300-foot-long tunnel; (3) a 72-inch-diameter, 150-foot-long, steel penstock; (4) a power house containing two 2.5-megawatt Francis turbine/generator units; (5) a 95-foot-long open channel tailrace; (6) a 3.6-acre tailrace detention pond; (6) a 1.1-mile-long, 115-kilovolt transmission line; (7) two miles of project access road; and (8) appurtenant facilities.

m. A copy of the application is available for review at the Commission in the Public Reference Room or may be viewed on the Commission's Web site at http://www.ferc.gov using the “eLibrary” link. Enter the docket number excluding the last three digits in the docket number field to access the document. For assistance, contact FERC Online Support. Copies are also available for inspection and reproduction at the Kenai Community Library at 163 Main St Loop, Kenai, AK 99611 and at the Homer Electric Office at 280 Airport Way, Kenai, AK 99611.

You may also register online at http://www.ferc.gov/docs-filing/esubscription.asp to be notified via email of new filings and issuances related to this or other pending projects. For assistance, contact FERC Online Support.

n. Scoping Process:

The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will be held during business hours and will focus on resource agency and non-governmental organization (NGO) concerns, while the public scoping meeting is primarily for public input and will be held in the evening. All interested individuals, organizations, and agencies are invited to attend one or both of the meetings, and to assist the staff in identifying the scope of the environmental issues that should be analyzed in the EA. The times and locations of these meetings are as follows:

Evening Scoping Meeting

Date and Time: Wednesday, September 7, at 7:00 p.m. (Local Time).

Location: Moose Pass Community Hall, Mile 29.5 Seward Highway, Moose Pass, AK 99631.

Daytime Scoping Meeting

Date and Time: Thursday, September 8, at 10:00 a.m. (Local Time).

Location: Moose Pass Community Hall, Mile 29.5 Seward Highway, Moose Pass, AK 99631.

Copies of the Scoping Document (SD3) outlining the subject areas to be addressed in the EA were distributed to the parties on the Commission's mailing list and to Kenai Hydro's distribution list. Copies of the SD3 will be available at the scoping meetings and may be viewed on the Web at http://www.ferc.gov using the “eLibrary” link (see item m above).

Environmental Site Review

The Applicant and FERC staff will conduct a project Environmental Site Review beginning at 8:00 a.m. on September 7, 2016. All participants interested in the environmental site review and hiking into the location of the proposed powerhouse should meet at the Moose Pass Community Hall on the Seward Highway at mile 29.5 by 8 a.m. on September 7, 2016. Participants should be in good health and prepared/able to hike without assistance for 5 miles in unimproved trail conditions with a 200 yard section of off trail hiking in a heavily forested area. The elevation gain for the hike is approximately 200 feet. Participants should also pack their own lunch, snacks and water, wear rugged footwear, and be prepared for inclement and potentially cold weather conditions. Anyone with questions about the site visit should contact Mike Salzetti at (907) 283-2375 or msalzetti@homerelectric.com. Those individuals planning to participate in the site visit should notify Mr. Salzetti of their intent, no later than August 26, 2016.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: July 22, 2016.
Kimberly D. Bose,
Secretary.

[FR Doc. 2016-17855 Filed 7-27-16; 8:45 am]

BILLING CODE 6717-01-P